DEPARTMENT OF ENERGY

Federal Energy Regulatory Commission

[Project No. 15045-002-WV; Project No. 15230-002-OH]

Notice of Scoping Meetings and Environmental Site Review and Soliciting Scoping Comments: Current Hydro Project 19, LLC; Pike Island Hydropower Corporation

Take notice that the following hydroelectric application has been filed with the Commission and is available for public inspection.

a. Types of Applications: Original Major Licenses.

b. Project Nos.: P-15045-002—New Cumberland Hydroelectric Project; P-15230-002—Pike Island Hydroelectric Project.

c. Dates Filed: May 8, 2024 for P-15045-002; May 14, 2024 for P-15230-002.

d. Applicants: Current Hydro Project 19, LLC for P-15045-002; Pike Island Hydropower Corporation for P-15230-002.

e. Name of Projects: New Cumberland Hydroelectric Project (P-15045-002); Pike Island Hydroelectric Project (P-15230-002).

f. Locations: New Cumberland Hydroelectric Project on the Ohio River in Hancock County, West Virginia.

Pike Island Hydroelectric Project on the Ohio River in Belmont County, Ohio.

g. Filed Pursuant to: Federal Power Act, 16 U.S.C. 791(a)-825(r).

h. Applicant Contact: Hailee Kessel, Senior Regulatory Lead, Current Hydro, LLC, 3120 Southwest Freeway, Suite 101, PMB 50808, Houston, TX 77098, telephone at (315) 558-9834; email at hailee@currenthydro.com.

i. FERC Contact: Colleen Corballis, Project Coordinator, Midwest Branch, Division of Hydropower Licensing; telephone at (202) 502-8598; email at colleen.corballis@ferc.gov.

j. Deadline for Filing Scoping Comments: May 30, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: New Cumberland Hydroelectric Project No. 15045-002 and/or Pike Island Hydroelectric Project No. 15230-002.

The Commission's Rules of Practice and Procedure require all intervenors filing documents with the Commission to serve a copy of that document on each person on the official service list for each Project. Further, if an intervenor files comments or documents with the Commission relating to the merits of an issue that may affect the responsibilities of a particular resource agency, they must also serve a copy of the document on that resource agency.

k. The application is not ready for environmental analysis at this time.

l. Project Descriptions: The proposed New Cumberland Project would be located the U.S. Army Corps of Engineers' (Corps) existing New Cumberland Lock and Dam and would consist of: (1) a 90-foot-wide, 350-foot-long, and 69-foot-high intake channel with trash racks; (2) a 186.8-foot-long, 98-foot-wide, and 74.5-foot-high concrete powerhouse on the east bank of the Ohio River; (3) two identical Kaplan pit turbine-generators with a total installed capacity of 19.99 megawatts (MW); (4) a 95-foot-wide, 215-foot-long tailrace channel; (5) a 180-foot-long, 12.47-kilovolt (kV), 22.2 megavolt ampere (MVA) underground transmission line crossing under the Norfolk Southern Railway, transitioning to a 350-foot-long overhead transmission line to a substation; (6) a 90-foot-long, 90-foot-wide powerhouse substation including a 12.47-kV/138-kV, 25-MVA 3-phase single pad-mounted transformer; (7) a 1,050-foot-long, 138-kV, three phase overhead transmission line connecting the powerhouse substation to the existing 138-kilowatt (kW) transmission line; and (8) appurtenant facilities. The proposed estimated annual generation would be 132.4 gigawatt hours (GWh).

The proposed Pike Island Project would be located at the Corps' existing Pike Island Locks and Dam, and would consist of: (1) a 90-foot-wide, 180-foot-long, and 69-foot-high intake section with trash racks; (2) a 186.8-foot-long and 98-foot-wide concrete powerhouse on the west bank of the Ohio River; (3) two identical Kaplan pit turbine-generators with a total installed capacity of 19.99 MW; (4) a 150-foot-long and 95-foot-wide tailrace channel; (5) a new 550-foot-long, 12.47-kV, 25-MVA underground utilidor crossing under River Road; (6) a 100-foot-long and 120-foot-wide substation including a 3,600-foot-long, 69-kV three phase overhead transmission line connecting the powerhouse substation to the existing 69-kW transmission line; and (7) appurtenant facilities. The proposed estimated annual energy production would be 136.1 GWh.

m. A copy of the application can be viewed on the Commission's website at https://www.ferc.gov using the “eLibrary” link. Enter the Project's docket number excluding the last three digits in the docket number field to access the document (P-15045 or P-15230). For assistance, contact FERC Online Support.

You may also register at https://ferconline.ferc.gov/FERCOnline.aspx to be notified via email of new filings and issuances related to this or other pending projects. For assistance, please contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Scoping Process:

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

In addition to written comments solicited by this notice, Commission staff will hold two joint public scoping meetings for the Projects at the times and locations noted below. All interested individuals, resource agencies, Indian Tribes, and NGOs are invited to attend any of the meetings to assist Commission staff in identifying the scope of the environmental issues that should be analyzed in the NEPA document. The times and locations of these meetings are as follows:

Daytime Scoping Meeting

Date: May 6, 2025.

Time: 9:00 a.m. EST to 11:00 a.m. Eastern Daylight Time (EDT).

Meeting Location: To Be Determined.

Evening Scoping Meeting

Date: May 6, 2025.

Time: 5:00 p.m. EST to 7:00 p.m. EDT.

Location: To Be Determined.

Scoping Document 1 (SD1), which outlines the subject areas to be addressed in the NEPA document, was mailed to the individuals and entities on the Commission's mailing list and the applicants' distribution lists. Copies of SD1 will be available at the scoping meetings, or may be viewed on the web at http://www.ferc.gov, using the “eLibrary” link. Follow the directions for accessing information in paragraph m.

Environmental Site Review

Current Hydo and Commission staff will conduct an environmental site review of the Pike Island Project beginning at 2:00 p.m. EDT on May 6, 2025. Participants should meet at 2:00 p.m. EDT at the Fisherman's Access Area parking lot, which is located at the Pike Island Locks and Dam Fisherman's Access Area in Yorkville, OH 26003. All participants must remain in publicly accessible spaces and should wear closed-toe shoes/boots for walking in uneven/sloped terrain around the proposed project area.

All interested individuals, resource agencies, Indian Tribes, and NGOs are invited to attend the site review. If you plan to attend the site review, please contact Mitchell Kriege of Current Hydro at (859) 630-7389, or via email at mitchell@currenthydro.com on or before April 22, 2025, and indicate if you are attending the Pike Island Project environmental site review and how many participants will be attending with you.

There will not be an environmental site review at the proposed New Cumberland Project due to site access constraints to the proposed project.

Meeting Procedures

Individuals, NGOs, Indian Tribes, and agencies with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix 1 for additional information on the session format and conduct.¹

¹ The appendix referenced in this notice will not appear in the Federal Register. Copies of the appendix were sent to all those receiving this notice in the mail and are available at http://www.ferc.gov using the “eLibrary” link. For assistance, please contact FERC Online Support at FERCOnlineSupport@ferc.gov or call (866) 208-3676 (toll free), or (202) 502-8659 (TTY).

Scoping comments will be recorded by the court reporter and become part of the public record for this proceeding. Transcripts will be publicly available on FERC's eLibrary system. If a significant number of people are interested in providing oral comments in the one-on-one settings, a time limit may be implemented for each commentor.

It is important to note that the Commission provides equal consideration to all comments received, whether filed in writing or provided orally at a scoping meeting. Although there will not be a formal presentation, Commission staff will be available throughout the scoping session to answer your questions about the environmental review process. Representatives from Current Hydro will also be present to answer project-specific questions.

Dated: March 31, 2025.
Debbie-Anne A. Reese,
Secretary.

[FR Doc. 2025-05858 Filed 4-3-25; 8:45 am]

BILLING CODE 6717-01-P